DEPARTMENT OF COMMERCE

National Oceanic and Atmospheric Administration

Agency Information Collection Activities; Submission to the Office of Management and Budget for Review and Approval; Comment Request; Electronic Monitoring Systems for Atlantic Highly Migratory Species (HMS)

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to Office of Management and Budget (OMB).

DATES: To ensure consideration, comments regarding this proposed information collection must be received on or before August 28, 2023.

ADDRESSES: Interested persons are invited to submit written comments to Adrienne Thomas, NOAA PRA Officer, at NOAA.PRA@noaa.gov. Please reference OMB Control Number 0648-0372 in the subject line of your comments. Do not submit Confidential Business Information or otherwise sensitive or protected information.

FOR FURTHER INFORMATION CONTACT: Requests for additional information or specific questions related to collection activities should be directed to Cliff Hutt, Fisheries Management Specialist, National Marine Fisheries Service (NMFS), Highly Migratory Species (HMS) Management Division, 1315 East-West Highway, SSMC3, Silver Spring, MD 20910; 301-427-8503; or cliff.hutt@noaa.gov.

SUPPLEMENTARY INFORMATION:

I. Abstract

This request is for renewal and extension without revision of a current information collection request (ICR) 0648-0372 Electronic Monitoring Systems for Atlantic HMS. This renewal and extension is separate from the temporary ICR associated with Amendment 15 to the 2006 Consolidated Atlantic HMS Fishery Management Plan (0648-BI10), which is considering substantial revisions to 0648-0372. Amendment 15 will not be finalized before the current ICR expires, necessitating this separate renewal effort.

Vessel monitoring systems (VMS) and other electronic monitoring systems collect important information on fishing effort, catch, and the geographic location of fishing effort and catch for certain sectors of the Atlantic HMS fleet. Data collected through these systems are used in both domestic and international fisheries management, including for law enforcement, stock assessments, and quota management purposes. Atlantic HMS vessels required to use VMS are pelagic longline, bottom longline (directed shark permit holders in North Carolina, South Carolina, and Virginia), and gillnet (directed shark permit holders consistent with the requirements of the Atlantic large whale take reduction plan requirements at 50 CFR 229.39.(h)) vessels. In addition to VMS, pelagic longline vessels are also required to have electronic monitoring systems to monitor catch and account for bluefin tuna interactions, and, when appropriate, monitoring the harvest of shortfin mako sharks.

NMFS Office of Law Enforcement monitors fleet adherence to gear- and time-area restrictions with VMS position location data. Gear restricted areas and time-area closures are important. Atlantic HMS management tools that have been implemented to reduce bycatch of juvenile swordfish, sea turtles, and bluefin tuna, among other species. Electronic monitoring data from the pelagic longline fleet are used by NMFS to accurately monitor bluefin tuna catch by the pelagic longline fleet, to ensure compliance with Individual Bluefin Quota (IBQ) limits and requirements, and to ensure that the Longline category bluefin tuna quota is not over-harvested. Additionally, electronic monitoring is used to verify disposition of retained shortfin mako sharks, when retention is allowed, consistent with binding international agreements. VMS reporting of bluefin tuna catch is used to monitor IBQ allocations in real-time.

Atlantic HMS fisheries are managed under the dual authority of the Magnuson-Stevens Fishery Conservation and Management Act (MSA) and the Atlantic Tunas Conservation Act (ATCA). Under the MSA, management measures must be consistent with the National Standards, and fisheries must be managed to maintain optimum yield, rebuild overfished fisheries, and prevent overfishing. Under ATCA, the Secretary of Commerce shall promulgate regulations, as necessary and appropriate, to implement measures adopted by the International Commission for the Conservation of Atlantic Tunas (ICCAT).

II. Method of Collection

First-time VMS respondents must install a VMS unit and submit an activation checklist to NMFS via mail. Hail-out, hail-in, hourly position reports, and bluefin tuna catch reports must be submitted to NMFS electronically via the VMS communication system. First-time electronic monitoring respondents must have an electronic monitoring system installed by a NMFS contractor. Except when the hard drive is at capacity after one trip or otherwise stated by NMFS in writing, electronic monitoring data must be submitted after every other pelagic longline trip by mailing computer hard drives to the designated NMFS contractor.

III. Data

OMB Control Number: 0648-0372.

Form Number(s): None.

Type of Review: Regular submission (extension of a current information collection).

Affected Public: Business or other for-profit organizations.

Estimated Number of Respondents: 154.

Estimated Time Per Response: 4 hours for initial VMS installation; 5 minutes per VMS initial activation checklist; 2 minutes per hail-out/hail-in declaration; 6 hours for initial electronic monitoring installation; 1 hour for camera boom installation; 5 minutes for pelagic longline bluefin tuna catch records; 1 minute for dockside review of bluefin tuna catch records; 1 hour for electronic monitoring data retrieval.

Estimated Total Annual Burden Hours: 3,305 hours.

Estimated Total Annual Cost to Public: $238,862.

Respondent's Obligation: Mandatory.

Legal Authority: Magnuson-Stevens Fishery Conservation and Management Act (16 U.S.C. 1801 et seq.), and the Atlantic Tunas Convention Act of 1975 (16 U.S.C. 971 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-13752 Filed 6-27-23; 8:45 am]

BILLING CODE 3510-22-P